DEPARTMENT OF STATE

[Public Notice: 11661]

Notice of Public Meeting in Preparation for the International Maritime Organization PPR 9 Meeting

The Department of State will conduct a public meeting at 1:00 p.m. on Tuesday, March 22, 2022, by way of teleconference. The primary purpose of the meeting is to prepare for the ninth session of the International Maritime Organization's (IMO) Sub-Committee on Pollution Prevention and Response (PPR 9) to be held remotely from Monday, April 4, 2022 to Friday, April 8, 2022.

Members of the public may participate up to the capacity of the teleconference phone line, which can handle 500 participants. To RSVP, participants should contact the meeting coordinator, LCDR Bryan Watts, by email at Bryan.Watts@uscg.mil. To access the teleconference line, participants should call (202) 475-4000 and use Participant Code: 877 239 87#.

The agenda items to be considered at the public meeting mirror those to be considered at PPR 9 and include:

—Adoption of the agenda

—Decisions of other IMO bodies

—Safety and pollution hazards of chemicals and preparation of consequential amendments to the IBC Code

—Development of an operational guide on the response to spills of hazardous and noxious substances (HNS)

—Revised guidance on methodologies that may be used for enumerating viable organisms

—Revision of guidelines associated with the AFS Convention as a consequence of the introduction of controls on cybutryne

—Review of the 2011 Guidelines for the control and management of ships' biofouling to minimize the transfer of invasive aquatic species (resolution MEPC.207(62))

—Reduction of the impact on the Arctic of Black Carbon emissions from international shipping

—Standards for shipboard gasification of waste systems and associated amendments to regulation 16 of MARPOL Annex VI

—Evaluation and harmonization of rules and guidance on the discharge of discharge water from exhaust gas cleaning systems (EGCS) into the aquatic environment, including conditions and areas

—Development of amendments to MARPOL Annex VI and the NOX Technical Code on the use of multiple engine operational profiles for a marine diesel engine

—Development of measures to reduce risks of use and carriage of heavy fuel oil as fuel by ships in Arctic waters

—Development of necessary amendments to MARPOL Annexes I, II, IV, V, and VI to allow States with ports in the Arctic region to enter into regional arrangements for port reception facilities (PRFs)

—Revision of MARPOL Annex IV and associated guidelines to introduce provisions for record-keeping and measures to confirm the lifetime performance of sewage treatment plants

—Follow-up work emanating from the Action Plan to Address Marine Plastic Litter from Ships

—Unified Interpretation to provisions of IMP environment-related conventions

—Biennial status report and provisional agenda for PPR 10

—Election of Chair and Vice-Chair for 2023

—Any other business

—Consideration of the report of the Sub-Committee

Please note: The IMO may, on short notice, adjust the PPR 9 agenda to accommodate the constraints associated with the virtual meeting format. Any changes to the agenda will be reported to those who RSVP.

Those who plan to participate may contact the meeting coordinator, LCDR Bryan Watts, by email at Bryan.Watts@uscg.mil, by phone at (202) 372-1446, or in writing at COMDT (CG-OES-3), ATTN: LCDR Bryan Watts, 2703 Martin Luther King Jr. Ave. SE Stop 7509, Washington DC 20593-7509. Members of the public needing reasonable accommodation should advise LCDR Watts not later than March 15, 2022. Requests made after that date will be considered, but might not be possible to fulfill.

Additional information regarding this and other IMO public meetings may be found at: https://www.dco.uscg.mil/IMO.

(Authority: 22 U.S.C. 2656 and 5 U.S.C. 552)

Emily A. Rose,
Coast Guard Liaison Officer, Office of Ocean and Polar Affairs, Department of State.

[FR Doc. 2022-03641 Filed 2-18-22; 8:45 am]

BILLING CODE 4710-09-P